DEPARTMENT OF COMMERCE

National Oceanic and Atmospheric Administration

[I.D. 060606B]

Endangered and Threatened Species; Take of Anadromous Fish

AGENCY: National Marine Fisheries Service (NMFS), National Oceanic and Atmospheric Administration (NOAA), Commerce.

ACTION: Applications for scientific research permits.

SUMMARY: Notice is hereby given that NMFS has received six scientific research permit application requests relating to Pacific salmon. The proposed research is intended to increase knowledge of species listed under the Endangered Species Act (ESA) and to help guide management and conservation efforts.

DATES: Comments or requests for a public hearing on the applications must be received at the appropriate address or fax number (see ADDRESSES) no later than 5 p.m. Pacific standard time on July 19, 2006.

ADDRESSES: Written comments on the applications should be sent to the Protected Resources Division, NMFS, 1201 NE Lloyd Blvd., Suite 1100, Portland, OR 97232-1274. Comments may also be sent via fax to 503-230-5441 or by e-mail to resapps.nwr@NOAA.gov.

FOR FURTHER INFORMATION CONTACT: Garth Griffin, Portland, OR (ph.: 503-231-2005, Fax: 503-230-5441, e-mail: Garth.Griffin@noaa.gov). Permit application instructions are available from the address above.

SUPPLEMENTARY INFORMATION:

Species Covered in This Notice

The following listed species are covered in this notice:

Chinook salmon (Oncorhynchus tshawytscha): threatened lower Columbia River (LCR), threatened upper Willamette River (UWR), threatened Puget Sound (PS), endangered upper Columbia River (UCR).

Chum salmon (O. keta): threatened Columbia River (CR), threatened Hood Canal (HC).

Steelhead (O. mykiss): threatened LCR, threatened UWR, threatened UCR, threatened middle Columbia River (MCR).

Coho salmon (O. kisutch): threatened LCR, threatened Southern Oregon Northern California Coasts (SONCC).

Authority

Scientific research permits are issued in accordance with section 10(a)(1)(A) of the ESA (16 U.S.C. 1531 et. seq) and regulations governing listed fish and wildlife permits (50 CFR 222-226). NMFS issues permits based on findings that such permits: (1) are applied for in good faith; (2) if granted and exercised, would not operate to the disadvantage of the listed species that are the subject of the permit; and (3) are consistent with the purposes and policy of section 2 of the ESA. The authority to take listed species is subject to conditions set forth in the permits.

Anyone requesting a hearing on an application listed in this notice should set out the specific reasons why a hearing on that application would be appropriate (see ADDRESSES). Such hearings are held at the discretion of the Assistant Administrator for Fisheries, NMFS.

Applications Received

Permit 1335 - Modification 4

Permit 1335 currently authorizes the US Forest Service (USFS) to take juvenile UCR Chinook salmon, UWR Chinook salmon, LCR Chinook salmon, PS Chinook salmon, UCR steelhead, UWR steelhead, LCR steelhead, MCR steelhead, CR chum salmon, HC chum salmon, and SONCC coho salmon on Federal lands covered by the Northwest Forest Plan in Oregon and Washington. The USFS is asking to modify their permit so they may be allowed to take LCR coho salmon and newly listed hatchery HC chum salmon, LCR Chinook salmon, UWR Chinook salmon, and SONCC coho salmon. They also wish to extend the permit's expiration date to December 31, 2010. The purpose of the research is to assess watershed conditions and limiting factors, and determine watershed health under the Northwest Forest Plan. The activities will benefit listed fish by providing the USFS with information to improve forest management. The USFS proposes to capture (using backpack electrofishing), anesthetize, measure, and release juvenile fish. The USFS does not intend to kill any fish being captured but some may die as an unintentional result of the research activities.

Permit 1564

The University of Washington, School of Aquatic and Fishery Sciences (UW) is requesting a 5-year research permit to take juvenile PS Chinook salmon. The objective of the research is to monitor the success of habitat restoration projects in the Duwamish River estuary the researchers wish to determine if the population characteristics of local Chinook salmon have changed (improved) in response to recent estuarine habitat restoration activities. The habitat restoration work was conducted by the Port of Seattle and monitoring has been going on since 2004 under a separate permit. The UW is now seeking their own permit to continue the study. The habitat restoration projects were designed to improve Chinook salmon rearing and migration habitat, and the research will benefit the fish by helping managers learn the effectiveness of those measures. The fish would be captured using enclosure nets and beach seines. Half of the juvenile Chinook salmon would be counted, checked for external marks and internal coded-wire tags, measured, and released. The other half of the captured fish would also have their stomachs flushed. The UW does not intend to kill any of the fish being captured but a small number may die as an unintended result of the activities.

Permit 1565

The National Park Service, Olympic National Park (ONP) is requesting a 5-year research permit to take juvenile LCR Chinook salmon, juvenile PS Chinook salmon, juvenile LCR steelhead, and juvenile LCR coho salmon. The research activities are part of the National Park Service Inventory and Monitoring Program and would be conducted within the boundaries of Mount Rainier National Park. The long-term goals for the program are to (1) monitor ecosystem status and trends; (2) help park managers identify alternative management actions, assess trade-offs, and evaluate outcomes; and (3) cooperate with other Federal and state agencies and thereby share resources, achieve common goals, and avoid unnecessary duplication of effort and expense. The research would benefit the fish by helping improve management actions. The ONP would use snorkeling and backpack electrofishing to assess species presence and abundance. Captured fish would be measured for length and released. The ONP does not intend to kill any of the fish being captured but a small number may die as an unintended result of the activities.

Permit 1566

The Northwest Fisheries Science Center (NWFSC) is requesting a 5-year research permit to take juvenile PS Chinook salmon. The purpose of this study is to monitor a number of proposed restoration sites along the Puget Sound shoreline from near the Hiram Chittenden Locks north to the town of Everett. The researchers would determine fish presence, gauge individual fish health, and measure chemical contamination. The goal is to establish a pre-restoration baseline of the conditions at each of the proposed restoration sites so the researchers can determine how effective the restoration is. The fish would benefit from ongoing improvement in the restoration efforts. Sediments would be collected from each site and chemically analyzed. The fish would be captured in beach seines, measured, and sampled for individual condition factors and whole body lipid content. Some of the captured fish would be sacrificed during the process, and a few more fish may die as an unintended result of the research.

Permit 1567

Ridolfi Inc. is requesting a 5-year research permit to take juvenile PS Chinook salmon. The purpose of this study is to monitor habitat restoration sites in Commencement Bay, Washington. Data from the research would be used to measure the success of restoration efforts, identify adaptive management approaches, address monitoring requirements specified by permitting agencies, and serve as an outreach tool for disseminating project information to interested parties. The fish would benefit from ongoing improvement in the restoration actions. The fish would be captured using block nets and beach seines at six restoration sites throughout Commencement Bay and its tributaries. The fish would be collected, identified, checked for marks or coded-wire tags, and measured. Ridolfi does not intend to kill any of the fish being captured, but a small number may die as an unintended result of the activities.

Permit 1568

The NWFSC is requesting a 5-year research permit to take juvenile PS Chinook salmon. The purpose of this project is to provide information on the basic life histories, ecology and genetic compositions of wild and hatchery juvenile Chinook salmon in the Snohomish River estuary. The study is designed to (1) characterize the ecology of existing Chinook salmon populations and life history types in the Snohomish River Estuary, and (2) evaluate how effectively habitat protection and restoration actions in the estuary help Chinook salmon populations in the Snohomish River Basin. The information gathered by this research would benefit the fish by helping recovery planning in the Snohomish River estuary and other estuaries of the Puget Sound. The fish would be captured using Fyke nets and beach seines. They would then be anesthetized, measured, and weighed. The fish would also be tissue-sampled and checked for external marks and coded-wire tags. A portion of the captured fish would be sacrificed for full necropsy and a few more may die as an unintended result of the research.

This notice is provided pursuant to section 10(c) of the ESA. NMFS will evaluate the application, associated documents, and comments submitted to determine whether the application meets the requirements of section 10(a) of the ESA and Federal regulations. The final permit decisions will not be made until after the end of the 30-day comment period. NMFS will publish notice of its final action in the Federal Register.

Dated: June 13, 2006.
Angela Somma,
Chief, Endangered Species Division, Office of Protected Resources, National Marine Fisheries Service.

[FR Doc. E6-9492 Filed 6-16-06; 8:45 am]

BILLING CODE 3510-22-S